DEPARTMENT OF THE TREASURY

Alcohol and Tobacco Tax and Trade Bureau

27 CFR Part 9

[T.D. TTB-39; Re: Notice No. 38]

RIN 1513-AA94

Establishment of the Ramona Valley Viticultural Area (2003R-375P)

AGENCY: Alcohol and Tobacco Tax and Trade Bureau, Treasury.

ACTION: Final rule; Treasury decision.

SUMMARY: This Treasury decision establishes the 89,000-acre Ramona Valley viticultural area in central San Diego County, California. The proposed area is entirely within the established South Coast viticultural area. We designate viticultural areas to allow vintners to better describe the origin of their wines and to allow consumers to better identify wines they may purchase.

DATES: Effective Date: January 6, 2006.

FOR FURTHER INFORMATION CONTACT: Nancy Sutton, Regulations and Procedures Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Ramona Valley Petition and Rulemaking

General Background

TTB received a petition from the Ramona Vineyard Association of Ramona, California, proposing to establish the Ramona Valley viticultural area in central San Diego County, California. Surrounding the town of Ramona, the proposed viticultural area is located 28 miles northeast of the city of San Diego, and is entirely within the established, multi-county South Coast viticultural area (27 CFR 9.104). In addition, the Ramona Valley area is south of two other viticultural areas, Temecula Valley (27 CFR 9.50) and San Pasqual Valley (27 CFR 9.25), both within the South Coast viticultural area. The proposed 89,000-acre Ramona Valley viticultural area contains 17 vineyards currently cultivating an estimated 45 acres of wine grapes.

The distinguishing factors of the proposed Ramona Valley viticultural area include its elevation, which contrasts with the surrounding areas, and climatic factors related to its elevation and inland location. Oriented west-southwest to east-northeast, the proposed area is roughly centered in the town of Ramona and is about 14.5 miles long and 9.5 miles wide.

Below, we summarize the evidence presented in the petition.

Name Evidence

Californians have used the “Ramona Valley” name for at least a century. In 1906, historian Ed Fletcher wrote “An Auto Trip Through San Diego's Back Country.” As republished in the spring 1969 issue of the Journal of San Diego History, the auto trip article makes several references to Ramona Valley and its geography, climate, and agricultural potential. Mr. Fletcher states, “The higher valley lands can easily be covered with water from the mountain streams, but a railroad is absolutely necessary, and when it does come, Ramona Valley will be heard from.”

In 1963, Richard F. Pourade wrote “The Silver Dons 1833-1865,” found in volume three of “The History of San Diego.” He describes the difficulty of reaching the Ramona Valley by different routes during its settlement. Mr. Pourade writes, “Both routes had difficult climbs, the San Pasqual route at the San Pasqual hill and the Lakeside route in the last mile before reaching the Ramona Valley.”

In 1961, Clarence Woodson wrote “Tea-Kettle Days,” published in the San Diego Historical Society Quarterly, volume 7, number 4, October 1961. He explained, “My grandfather, Dr. M. C. Woodson served as a surgeon in the Confederate Army, and a few years after the Civil War he brought my father and the rest of the family out to California from Paducah, Ky. He homesteaded land in the Ramona Valley in 1873 * * *.”

The proposed Ramona Valley viticultural area surrounds the unincorporated town of Ramona in San Diego County, which lies in a flat, broad valley largely isolated by the surrounding hills and mountains. Several businesses within the proposed viticultural area use “Ramona Valley” in their names, including the Ramona Valley Inn, which was established in 1981 on Main Street in Ramona.

Boundary Evidence

Using a boundary largely drawn through the surrounding mountain peaks, the proposed Ramona Valley viticultural area encompasses not only the valley in which the town of Ramona lies, but also several smaller side valleys and canyons, especially to the east and south of the town. The proposed boundary is based on historical and current viticultural activity within the proposed area and on its geographical and climatic features.

The history of Ramona Valley viticulture began with the arrival of Spanish missionaries in 1769. American viticulture started as early as 1889, with wine grapes grown at Rancho Bernardo for use at the Bernardo Winery. In modern times, Ross Rizzo, the master vintner at Bernardo Winery, recalls that up to a thousand acres of wine grapes were growing in Ramona Valley during the 1940s and 1950s. The Schwaesdall Winery, which opened in 1993, uses grape vines planted in the Ramona Valley in the 1950s as well as their own plantings begun in 1989.

The elevation of the proposed Ramona Valley viticultural area, which lies between the lower coastal valleys to the south, west, and north, and the surrounding mountains and the higher desert-like areas to the east, distinguishes the proposed viticultural area from surrounding areas. Climatic factors related to the elevation of the Ramona Valley and its inland location also distinguish the proposed viticultural area from nearby grape-growing regions. These factors are discussed in more detail below.

Distinguishing Features

Geography

The proposed Ramona Valley viticultural area is encircled by a ring of hills and mountains that isolate it from the surrounding regions of San Diego County. Santa Maria Creek flows west through the proposed viticultural area before passing through a narrow gap in the hills near the northwestern corner of the area.

The lowest elevation of the proposed Ramona Valley viticultural area, 650 feet, is at the southwest corner of the area at the San Vicente Reservoir. Elevations within the northern, southern, and western portions of the proposed viticultural area vary between 650 and 1,600 feet, with an average base elevation of about 1,400 feet. The eastern terrain of the proposed area climbs to more than 3,000 feet at the foothills of the Cuyamaca Mountains. The highest elevation suitable for viticulture within the proposed area is 2,640 feet.

Beyond the proposed Ramona Valley viticultural area boundary line to the south, west, and north are the lower coastal valleys with elevations of 500 feet or less. While higher in elevation than these nearby coastal valleys, the proposed Ramona Valley viticultural area is significantly lower than that of the Cuyamaca Mountain range to the east, which has peaks of 6,200 feet.

Climate

The proposed Ramona Valley viticultural area has a distinguishable microclimate as compared to the surrounding regions. With the Anza-Borrego Desert 25 miles to the east and the Pacific Ocean 25 miles to the west, the desert and ocean influences affect and moderate the Ramona Valley climate during the growing season.

Also known locally as “the Valley of the Sun,” due to its lack of cool coastal morning fog, the proposed Ramona Valley viticultural area is warmer than the lower elevation coastal areas and valleys to its south, west, and north. The proposed area is cooler in the summer, but warmer in the winter, than the higher Cuyamaca Mountains to its east.

A comparison of daily temperature variations among the towns of Ramona, Poway, Escondido, and Julian indicates that Ramona has greater daily temperature fluctuations than the surrounding areas. The proposed viticultural area enjoys up to 320 frost-free days and has a heat summation of 3,470 degree-days annually. (During the growing season, one degree day accumulates for each degree Fahrenheit that a day's mean temperature is above 50 degrees, which is the minimum temperature required for grapevine growth; see “General Viticulture,” Albert J. Winkler, University of California Press, 1975.)

The proposed Ramona Valley viticultural area receives an average annual rainfall of 16.5 inches. This rainfall total is more than that of the lower coastal valleys, but less than the 31-inch average received at Julian in the higher mountains to the east of the Ramona Valley area.

Soils

The proposed Ramona Valley viticultural area has a variety of soil types due to its differing landforms, slopes, and geology. The mountains surrounding the proposed area consist of igneous rock. Also, the mid-slopes to the east and west of the Ramona Valley floor have the reddish coloration of San Marcos Gabbro, a mafic rock type. Mafic rock formations are known to generate nutrient-rich soil, which is ideal for agriculture.

Soil series of the proposed Ramona Valley viticultural area include Ramona, Visalia, Los Posas, and Fallbrook loams. The Ramona soil series, as documented in the 1973 U.S. Soil Conservation Service Soil Survey for San Diego County, consists of well-drained, very deep sandy loams with sandy clay loam subsoil. This series is found between the 200-foot and 1,800-foot elevations on terraces and alluvial fans.

Notice of Proposed Rulemaking

On March 31, 2005, TTB published a notice of proposed rulemaking regarding the establishment of the Ramona Valley viticultural area in the Federal Register (70 FR 16459) as Notice No. 38. In that notice, TTB requested comments by May 31, 2005, from all interested persons. TTB received no comments in response to Notice No. 38.

TTB Finding

After careful review of the petition, TTB finds that the evidence submitted supports the establishment of the proposed viticultural area. Therefore, under the authority of the Federal Alcohol Administration Act and part 4 of our regulations, we establish the “Ramona Valley” viticultural area in San Diego County, California, effective 30 days from the publication date of this document.

Boundary Description

See the narrative boundary description of the viticultural area in the regulatory text published at the end of this notice.

Maps

The petitioner provided the required maps, and we list them below in the regulatory text.

Impact on Current Wine Labels

Part 4 of the TTB regulations prohibits any label reference on a wine that indicates or implies an origin other than the wine's true place of origin. With the establishment of this viticultural area and its inclusion in part 9 of the TTB regulations, its name, “Ramona Valley,” is recognized as a name of viticultural significance. Consequently, wine bottlers using “Ramona Valley” in a brand name, including a trademark, or in another label reference as to the origin of the wine, must ensure that the product is eligible to use the viticultural area's name as an appellation of origin.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label.

Different rules apply if a wine has a brand name containing a viticultural area name that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866 (58 FR 51735). Therefore, it requires no regulatory assessment.

Drafting Information

Nancy Sutton of the Regulations and Procedures Division drafted this document.

List of Subjects in 27 CFR Part 9

Wine.

The Regulatory Amendment

For the reasons discussed in the preamble, we amend 27 CFR, chapter 1, part 9, as follows:

PART 9—AMERICAN VITICULTURAL AREAS

1. The authority citation for part 9 continues to read as follows:

Authority: 27 U.S.C. 205.

Subpart C—Approved American Viticultural Areas

2. Amend subpart C by adding § 9.191 to read as follows:

§ 9.191 Ramona Valley.

(a) Name. The name of the viticultural area described in this section is “Ramona Valley”. For purposes of part 4 of this chapter, “Ramona Valley” is a term of viticultural significance.

(b) Approved Maps. The two United States Geological Survey 1:100,000 scale topographic (30 x 60 Minute Quadrangle) maps used to determine the boundaries of the Ramona Valley viticultural area are titled—

(1) Borrego Valley, California, 1982 edition; and

(2) El Cajon, California, 1979 edition.

(c) Boundary. The Ramona Valley viticultural area is located in central San Diego County, California. The area's boundaries are defined as follows—

(1) Beginning in the southwest corner of the Borrego Valley map at the 882-meter (2,894-foot) peak of Woodson Mountain, T13S, R1W, proceed straight north-northwest approximately 3.25 miles to the 652-meter (2,140-foot) peak of Starvation Mountain, T13S, R1W (Borrego Valley map); then

(2) Proceed straight east-northeast approximately 12.5 miles to the Gaging Station on the northwest shoreline of Sutherland Lake, T12S, R2E (Borrego Valley map); then

(3) Proceed straight southeast approximately 4.4 miles to the 999-meter (3,278-foot) peak of Witch Creek Mountain, T13S, R2E, east of Ballena Valley (Borrego Valley map); then

(4) Proceed straight south-southeasterly approximately 6.6 miles, crossing onto the El Cajon map, to the summit of Eagle Peak (3,166 feet), T14S, R3E, northeast of the El Capitan Reservoir (El Cajon map); then

(5) Proceed straight west-southwest approximately 12.7 miles, passing through Barona Valley, to the peak (1,002 feet) near the center of the unnamed island in the San Vicente Reservoir, T14S, R1E (El Cajon map); then

(6) Proceed straight northwesterly approximately 3.9 miles to the 822-meter (2,697-foot) peak of Iron Mountain, T14S, R1W (El Cajon map); and

(7) Proceed straight north-northwest approximately 2.8 miles, crossing onto the Borrego Valley map, and return to the beginning point at the peak of Woodson Mountain.

Signed: August 29, 2005.
John J. Manfreda,
Administrator.
Approved: November 3, 2005.
Timothy E. Skud,
Deputy Assistant Secretary (Tax, Trade, and Tariff Policy).

[FR Doc. 05-23684 Filed 12-6-05; 8:45 am]

BILLING CODE 4810-31-P